DEPARTMENT OF HOMELAND SECURITY

Coast Guard

[USCG-2011-0310]

National Maritime Security Advisory Committee; Meeting

AGENCY: Coast Guard, DHS.

ACTION: Notice of teleconference meeting.

SUMMARY: The National Maritime Security Advisory Committee (NMSAC) will meet by teleconference to discuss the results of the Seafarer Access to Shore Leave Working Group. This meeting will be open to the public.

DATES: The teleconference meeting will take place on Friday, May 20, 2011, from 11 a.m. to 1 p.m. EST. Please note that the meeting may close early if the committee has completed its business.

ADDRESSES: The Committee will meet via telephone conference, on May 20, 2011. As there are only 100 teleconference lines, public participation will be on a first come basis.

For information on facilities or services for individuals with disabilities or to request special assistance at the teleconference, contact Mr. Ryan Owens as soon as possible.

To facilitate public participation we are inviting public comment on the issues to be considered by the committee as listed in the “Agenda” section below. Comments must be submitted in writing no later than May 16, 2011, and must be identified by USCG-2011-0310 and may be submitted by one of the following methods:

• Federal eRulemaking Portal: http://www.regulations.gov. Follow the instructions for submitting comments.

• E-mail: Ryan.F.Owens@uscg.mil. Include the docket number in the subject line of the message.

• Fax: (202) 372-1990.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9239.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www/regulations.gov.

A public comment period will be held during the meeting on May 20, 2011 from 12:30-1 p.m. Speakers are requested to limit their comments to 3 minutes. Please note that the public comment period may end before the time indicated, following the last call for comments. Contact the individual listed below to register as a speaker.

FOR FURTHER INFORMATION CONTACT: If you have questions about this teleconference, please contact Mr. Ryan F. Owens, Alternate Designated Federal Officer (DFO) of NMSAC, telephone 202-372-1108, fax 202-372-1990. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

NOSAC provides advice and makes recommendations to the Coast Guard on safety and other concerns affecting the offshore oil and gas industry and assists the Coast Guard in formulating U.S. positions for discussion and presentation at the International Maritime Organization (IMO).

Agenda

(1) Results of Seafarer Access Working Group's review and recommendations of Section 811 of the Coast Guard Authorization Act of 2010 which requires facility security plans to make accommodations for shore side access for seaman.

(2) Period for public comment. Public comment period will be held from 12:30-1 p.m. Speakers' comments are limited to 3 minutes.

(3) Committee discussion and consensus recommendation.

Dated: May 2, 2011.
K.C. Kiefer,
Captain, U.S. Coast Guard, Office of Port and Facility Activities.

[FR Doc. 2011-10993 Filed 5-4-11; 8:45 am]

BILLING CODE 9110-04-P